DEPARTMENT OF THE INTERIOR

National Park Service

[NPS-WASO-NRNHL-14729; PPWOCRADI0, PCU00RP14.R50000]

National Register of Historic Places; Notification of Pending Nominations and Related Actions

Nominations for the following properties being considered for listing or related actions in the National Register were received by the National Park Service before December 21, 2013. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington, DC 20005; or by fax, 202-371-6447. Written or faxed comments should be submitted by February 5, 2014. Before including your address, phone number, email address, or other personal identifying information in your comment, you should be aware that your entire comment—including your personal identifying information—may be made publicly available at any time. While you can ask us in your comment to withhold your personal identifying information from public review, we cannot guarantee that we will be able to do so.

Dated: December 24, 2013.
J. Paul Loether,
Chief, National Register of Historic Places/National Historic Landmarks Program.

DISTRICT OF COLUMBIA

District of Columbia

Washington Railway and Electric Company Garage, (Streetcar and Bus Resources of Washington, DC MPS) 2112 Georgia Ave. NW., Washington, 13001133

FLORIDA

St. Johns County

St. Augustine Water Works, 184 San Marco Ave., St. Augustine, 13001134

IOWA

Clinton County

Wilson Buildings, (Clinton, Iowa MPS) 211-219 5th Ave., S., Clinton, 13001135

Harrison County

Modale School and Masonic Hall, 107 S. Main St., Modale, 13001136

Jones County

Scotch Grove Historic District, Jct. of IA 38, 116th Ave. & Cty. Rd. E17, Monticello, 13001137

Sac County

Chautauqua Park Historic District, 106 Park Ave., Sac City, 13001138

Shelby County

Shelby Consolidated School, 304 Western Ave., Shelby, 13001139

Story County

Iowa Beta Chapter of Sigma Phi Epsilon, 228 Gray Ave., Ames, 13001140

Winneshiek County

Highlandville School, 3499 Highlandville Rd., Decorah, 13001141

LOUISIANA

East Baton Rouge Parish

Olinde Building, 1854 North St., Baton Rouge, 13001142

Orleans Parish

Oil and Gas Building, 1100 Tulane Ave., New Orleans, 13001143

MINNESOTA

Beltrami County

Minnesota and International Railway Trestle at Blackduck, (Railroads in Minnesota MPS) .25 mi. N. of Jct. CSAH 39, Blackduck, 13001144

Hennepin County

Hollywood Theater, 2815 Johnson St. NE., Minneapolis, 13001145

Plymouth Building, 12 S. 6th St., Minneapolis, 13001146

Ramsey County

Minnesota Milk Company Building, 370 W. University Ave., Saint Paul, 13001148

MISSOURI

Moniteau County

Assumption of the Blessed Virgin Mary Parish Historic District, (Rural Church Architecture of Missouri, c. 1819 to c. 1945 MPS) NW. corner of Jct. of Cedron Rd. & Zey Ln., Jamestown, 13001147

NEW HAMPSHIRE

Rockingham County

North Hampton Library, 237 Atlantic Ave., North Hampton, 13001149

NEW YORK

Bronx County

Port Morris Ferry Bridges, 106 Locust Ave., Bronx, 13001150

St. Anselm's Roman Catholic Church and School, 683 Tinton Ave., Bronx, 13001151

New York County

New York Bible Society, 5 E. 48th St., Manhattan, 13001152

North Presbyterian Church, 525 W. 155th St., Manhattan, 13001153

Onondaga County

Bellevue Country Club, 1901 Glenwood Ave., Syracuse, 13001154

Queens County

Rockaway Courthouse, 90-01 Beach Channel Dr., Rockaway Beach, 13001155

Temple of Israel Synagogue, 1-88 Beach 84th St., Rockaway Beach, 13001156

Schenectady County

First Unitarian Society Church, 1221 Wendell Ave., Schenectady, 13001157

NORTH CAROLINA

Henderson County

Oakdale Cemetery, N. & S. sides of 6th Ave., W., W. of Valley St., Hendersonville, 13001158

TEXAS

Travis County

Lung House, (East Austin MRA) 1605 Canterbury St., Austin, 13001159

Walsh, James M. & Leana B., House, 3701 Bonnie Rd., Austin, 13001160

VIRGINIA

Franklin Independent City

Woods Hill, 1501 Clay St., Franklin (Independent City), 13001161

Henrico County

James River Steam Brewery Cellars, 4920 Old Main St., Richmond, 13001162

King and Queen County

King and Queen Courthouse Green Historic District (Boundary Increase), 106 Allen Cir., Shacklefords, 13001163

Mecklenburg County

On the Hill, 982 Jefferson St., Boydton, 13001164

Richmond Independent City

Laurel Meadow, 1640 Bramwell Rd., Richmond (Independent City), 13001165

WEST VIRGINIA

Jefferson County

Potomac Mills, River & Trough Rds., Shepardstown, 13001166

[FR Doc. 2014-00976 Filed 1-17-14; 8:45 am]

BILLING CODE 4312-51-P